DEPARTMENT OF TRANSPORTATION

Federal Aviation Administration

[Docket No. FAA-2005-22997]

RIN 2120-AI23

Reduction of Fuel Tank Flammability in Transport Category Airplanes

AGENCY: Federal Aviation Administration (FAA), DOT.

ACTION: Notice of availability and request for comments.

SUMMARY: This notice announces the availability of and request for comments on the report, “Assessment of the Effectiveness of Special Federal Aviation Regulation (SFAR) 88 Airworthiness Directives (ADs) in Preventing Ignition Sources.” The FAA is making available this report, which supports its Notice of Proposed Rulemaking (NPRM) entitled “Reduction of Fuel Tank Flammability in Transport Category Airplanes.” The report can be found at the DOT Docket Web site, at http://dms.dot.gov, Docket No. FAA-2005-22997.

DATES: Comments must be received on or before March 23, 2006.

ADDRESSEES: You may send comments, identified by Docket No. FAA-2005-22997, using any of the following methods:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

FOR FURTHER INFORMATION CONTACT: Michael E. Dostert, FAA, Propulsion/Mechanical Systems Branch (ANM-112), Transport Airplane Directorate, Aircraft Certification Service, 1601 Lind Avenue, SW., Renton, Washington 98055-4056; telephone (425) 227-2132, facsimile (425) 227-1320; e-mail: mike.dostert@faa.gov.

Comments Invited

Interested parties are invited to submit comments on the report. Commenters must submit comments to an address specified above. The FAA will consider all communications received on or before the closing date for comments.

Discussion

The FAA commissioned the Sandia National Laboratories to perform an independent study on the effectiveness of ignition source prevention measures in airplane fuel tanks. Sandia National Laboratories documented the results of its study in a technical report titled “Assessment of the Effectiveness of Special Federal Aviation Regulation (SFAR) 88 Airworthiness Directives (ADs) in Preventing Ignition Sources.” This report supports the FAA's NPRM (published on November 23, 2005 (70 FR 10922)) that proposes to require operators and design approval holders of transport category airplanes to reduce fuel tank flammability exposure, which, in combination with previous ignition source minimization, would greatly reduce the chances of a catastrophic fuel tank explosion.

The report is currently undergoing a peer review, as required by the Office of Management and Budget's “Final Information Quality Bulletin for Peer Review.” The FAA will add the report of the peer review to the public docket and make it available for public comment.

Issued in Washington, DC, on February 9, 2006.
Anthony F. Fazio,
Director, Office of Rulemaking.

[FR Doc. E6-2181 Filed 2-14-06; 8:45 am]

BILLING CODE 4910-13-P